DEPARTMENT OF EDUCATION

Tech-Prep Demonstration Program

AGENCY: Office of Vocational and Adult Education, Department of Education.

ACTION: Notice of proposed requirements, proposed priorities and proposed selection criteria for Fiscal Year (FY) 2003 and subsequent years.

SUMMARY: The Assistant Secretary for the Office of Vocational and Adult Education proposes requirements, priorities and selection criteria under the Tech-Prep Demonstration Program (TPDP). The Assistant Secretary will use these requirements, priorities and selection criteria for a competition in fiscal year (FY) 2003 and may use them in later years. We intend these requirements, priorities and selection criteria to support the four basic education reform principles underlying the No Child Left Behind Act of 2001 (NCLB): Stronger accountability for results, increased flexibility and local control, expanded options for parents, and an emphasis on teaching methods that have been proven to work. We take this action to clarify the Department's expectations regarding this program, so that TPDP-funded projects will help students, schools and teachers in their efforts to improve student achievement, meet high standards for high school graduation, and increase transition and persistence rates in postsecondary education.

DATES: We must receive your comments on or before February 24, 2003.

ADDRESSES: Address all comments about these proposed priorities to Karen Stratman Clark, U.S. Department of Education, OVAE, MES Room 5223, 400 Maryland Avenue SW., Washington DC 20202-7100. If you prefer to send your comments through the Internet, use the following address: Karen.clark@ed.gov. You must include the term “TPDP Proposed Requirements” in the subject line of your electronic message.

FOR FURTHER INFORMATION CONTACT: Karen Clark. Telephone: (202) 205-3779. or via Internet: karen.clark@ed.gov.

If you use a telecommunications device for the deaf (TDD), you may call the Federal Information Relay Service (FIRS) at 1-800-877-8339. Individuals with disabilities may obtain this document in an alternative format (e.g., Braille, large print, audiotape, or computer diskette) on request to the contact person listed under FOR FURTHER INFORMATION CONTACT.

Invitation to Comment

We invite you to submit comments regarding these proposed requirements, priorities and selection criteria. To ensure that your comments have maximum effect in developing the notice of final priorities, we urge you to identify clearly the specific proposed requirement, priority or selection criterion that each comment addresses.

We invite you to assist us in complying with the specific requirements of Executive Order 12866 and its overall requirement of reducing regulatory burden that might result from these proposed priorities. Please let me know of any further opportunities we should take to reduce potential costs or increase potential benefits while preserving the effective and efficient administration of the program.

During and after the comment period, you may inspect all public comments about these proposed priorities in Room 4328, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

SUPPLEMENTARY INFORMATION: We propose to establish program requirements, priorities, selection criteria and a project period for the TPDP, which is authorized by section 207 of the Carl D. Perkins Vocational and Technical Education Act of 1998 (Perkins III). TPDP provides grants to consortia to carry out tech-prep education projects that involve the location of a secondary school on the site of a community college, a business as a member of the consortium, and the voluntary participation of secondary school students. We proposed to fund projects that, following an initial recruitment period, would enroll a new student cohort in each year of the project, in addition to continuing support for each previous TPDP student cohort.

Eligibility

To be eligible for funding under the TPDP, a consortium must include at least one member in each of the following three categories:

(1) A local educational agency, an intermediate educational agency, an area vocational and technical education school serving secondary school students, or a secondary school funded by the Bureau of Indian Affairs;

(2)(a) A nonprofit institution of higher education that offers a 2-year associate degree, 2-year certificate, or 2-year postsecondary apprenticeship program, or (b) a proprietary institution of higher education that offers a 2-year associate degree program; and

(3) A business.

Under the provisions of section 204(a)(1) of Perkins III, to be eligible for consortium membership both nonprofit and proprietary institutions of higher education must be qualified as institutions of higher education pursuant to section 102 of the Higher Education Act of 1965 (HEA), including institutions receiving assistance under the Tribally Controlled College or University Assistance Act of 1978 (25 U.S.C. 1801 et seq.) and tribally controlled postsecondary vocational and technical institutions.

In addition, nonprofit institutions of higher education are eligible only if they are not prohibited from receiving assistance under HEA, title IV, part B (20 U.S.C. 1071 et seq.), pursuant to the provisions of HEA section 435(a)(3) (20 U.S.C. 1083(a)). Proprietary institutions of higher education are eligible only if they are not subject to a default management plan required by the Secretary.

Under the provisions of section 204(a)(2), consortia also may include one or more: (1) Institutions of higher education that award baccalaureate degrees; (2) employer organizations; or (3) labor organizations.

Requirements

To achieve the purposes of section 207 of Perkins III, we propose to establish the following requirements. These requirements would apply to all applicants seeking funding under this competition.

(1) Each applicant must submit a signed Consortium Agreement (Agreement), providing evidence that each of the categories of membership required under Section 207 has been satisfied, and that each of the required members is eligible for membership under the provisions of Perkins III. The Agreement must contain a signature of commitment from any participating secondary school, community college, and business member, affirming that those entities have formed a consortium to develop, implement and sustain a TPDP project as described under Section 207 of Perkins III. The Agreement Also must describe the roles and responsibilities of each consortium member within the proposed project. The format for the Agreement will be included in the Notice Inviting Applications.

(2) Each applicant must submit enrollment goals for the number of students in each student cohort to be enrolled in each year of the TPDP project.

(3) Each applicant must provide an assurance that it will enroll its first student cohort and begin classes no later than September of the calendar year after the year in which the grant award is made, and enroll its second, third, and fourth student cohorts by September of each subsequent year of the proposed project.

(4) Each applicant must submit a complete Proposed Project Course Sequence Plan (“the Plan”) to demonstrate how the proposed instructional program represents a sequential, four-year program of study that meets the specific criteria set forth in sections 202(a)(3) and 204(c) of Perkins III. The Plan must list the course sequences for each program of study within the proposed TPDP project, describing the specific academic and technical coursework required for all four years of the program. The Plan also must summarize program entrance requirements and specify the associate degree or postsecondary certificate to be earned upon completion of the program. The format for the Plan will be included in the Notice Inviting Applications.

(5) Each TPDP-funded project must involve a secondary school physically located on the site of a community college and provide a complete program of academic and technical coursework at the community college that, at a minimum, meets State requirements for high school graduation. Students must be enrolled full-time in the high school on the community college campus. However, enrolled students may participate in extra curricular activities at their original high school. Proposed projects that involve only the “virtual” location of a secondary school on the site of a community college, and projects that involve only satellite community college sites located on the premises of secondary schools, are not eligible for support under this competition.

(6) Each TPDP-funded project must carry out an evaluation to determine the impact of the project on a comprehensive set of student outcomes, including: Academic and technical skills achievement; high school graduation; enrollment and completion of postsecondary education; postsecondary remedial coursework; and labor market entry. In conducting this evaluation, each TPDP project must use either an experimental design, in which students are randomly assigned to the demonstration program or another program, or a quasi-experimental design, in which each program participant is matched with a non-participant possessing similar pre-program characteristics, such as test scores on State academic assessments, grade point average, class rank, technical coursework or course of study, and Socioeconomic status.

(7) Each TPDP project must submit annual reports of anticipated enrollment. The reports of anticipated enrollment must include the number of students in each cohort enrolled for the coming year and, if that differs from the enrollment goals stated in the approved application, the reasons. The reports of anticipated enrollment will be due at the end of April of each project year.

(8) Each TPDP project must submit annual project performance reports and a final project performance report.

Both the annual and final performance reports must summarize the TPDP project's progress and significant accomplishments, both with respect to the process of implementation and the outcomes of student participation; provide data regarding enrollment, persistence, and program completion for each student cohort; identify barriers to continued progress and outline solutions; include a progress report on and an analysis of the findings of the project evaluation; and review prospects for sustained operations after the cessation of Federal support. The annual and final performance reports will be due within 90 days of the end of each project year or of the end of the project.

Funded projects would be required to comply with all requirements adopted in the Notice of final requirements, priorities, and selection criteria to be published in the Federal Register. Failure to comply with any applicable program requirement may subject a grantee to special conditions, withholding, or termination.

Selection Criteria

We propose to use the following selection criteria to evaluate applications for new grants under this competition. The maximum score for all of the following criteria is 100 points. The maximum score for each criterion and sub-criterion is indicated in parentheses.

(a) Quality of the project design. (40 points)

In determining the quality of the design of the proposed project, we consider the following factors:

(1) The extent to which the applicant demonstrates its readiness to implement a complete, career-oriented, 4-year program of study, as evidenced by a formal articulation agreement concerning the structure, content and sequence of all academic and technical courses to be offered in the proposed tech prep program and, if applicable, the conditions under which dual credit will be awarded. (8 points)

(2) The extent to which the proposed instructional program will meet high academic standards that equal or exceed those established by the State. (4 points)

(3) The extent to which the applicant has aligned its secondary academic and technical course offerings and requirements for program completion with the entrance requirements for the corresponding postsecondary degree or certificate program. (4 points)

(4) The extent to which the applicant presents a detailed student recruitment plan that is likely to be effective in fulfilling the project's enrollment goals for each year of the project. (8 points)

(5) The extent to which the proposed project will provide comprehensive academic and career counseling and other support services to participating students at both the secondary and postsecondary levels, to ensure their persistence in the program and attainment of a postsecondary degree or certificate. (8 points)

(6) The extent to which the proposed project will provide high quality, sustained, and intensive professional development for instructors, counselors and administrators involved in the program. (8 points)

(b) Quality of the management plan. (15 points)

In determining the quality of the management plan for the proposed project, we consider the following factors:

(1) The extent to which the management plan outlines specific, measurable goals, objectives, and outcomes to be achieved by the proposed project. (5 points)

(2) The extent to which the management plan assigns responsibility for the accomplishment of project tasks to specific project personnel, and provides timelines for the accomplishment of project tasks. (5 points)

(3) The extent to which the time commitments of the project director and other key personnel are appropriate and adequate to achieve the objectives of the proposed project. (5 points)

(c) Quality of project personnel. (15 points)

In determining the quality of project personnel, we consider the following factors:

(1) The extent to which the applicant encourages applications for employment from members of groups that have traditionally been underrepresented based on race, color, national origin, gender, age, or disability. (5 points)

(2) The qualifications, including relevant training and experience, of the project director. (5 points)

(3) The qualifications, including relevant training and experience, of key project personnel, including teachers, counselors, administrators, and project consultants. (5 points)

(d) Adequacy of resources. (10 points)

In determining the adequacy of resources for the proposed project, we consider the following factors:

(1) The adequacy of support, including facilities, equipment, supplies, and other resources, from the participating institutions. (5 points)

(2) The extent to which the budget is adequate and costs are reasonable in relation to the objectives and design of the proposed project. (5 points)

(e) Quality of the project evaluation. (20 points)

In determining the quality of the evaluation, we consider the following factors:

(1) The extent to which the application presents a feasible, credible plan for project evaluation and includes: the type of design to be used; outcomes to be examined; and how participants will be assigned to the program or matched for comparison to non-program participants (10 points)

(2) The extent to which the evaluation will provide reports or other documents at appropriate intervals to be used for continuous program improvement. (4 points)

(3) The extent to which the proposed evaluation will be conducted by an independent evaluator with the necessary background and technical expertise to carry out the evaluation. (6 points)

Discussion of Priorities

Following the comment period, we will announce the final requirements, priorities, and selection criteria in a notice in the Federal Register. We will determine the final requirements, priorities and selection criteria after considering responses to this notice and other information available to the Department. This notice does not preclude us from proposing or funding additional priorities, subject to meeting applicable rulemaking requirements.

Note: This notice does not solicit applications. In any year in which we choose to use one or more of these proposed priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Proposed Priority 1

Under this proposed priority, we would give competitive preference by awarding up to 5 additional points to applications that require all teachers teaching core academic subjects to be highly qualified, as such term is defined by section 9101 (23) of the ESEA, as amended by NCLB. NOTE: ESEA defines core academic subjects as English, reading or language arts, mathematics, science, foreign languages, civics and government, economics, arts, history and geography.

Proposed Priority 2

Under this proposed priority, we would give competitive preference by awarding up to 5 additional points to applications that require each participating student, as a condition of high school graduation, to pass at least one high school level test (either a comprehensive test covering a variety of courses in a subject area or a high school end-of-course test) in English language arts, mathematics, and science. To receive any points under this priority, applicants must describe their specific high school graduation requirements.

Proposed Priority 3

Under this proposed priority, we would give competitive preference by awarding up to 5 additional points to applications that offer the proposed TPDP project as an alternative for students attending secondary schools that have been identified for school improvement under section 1116(b)(1) of the Elementary and Secondary Education Act of 1965 (ESEA), as amended by the No Child Left Behind Act of 2001; or include the proposed TPDP project in a corrective action or restructuring plan to improve student academic achievement at secondary schools identified for school improvement under section 116 of the ESEA. To receive any points under this priority, applicants must provide evidence of a school's designation under section 1116 of the ESEA.

Project Period

We have concluded that funding multi-year projects for a project period of five years entirely from the Fiscal Year 2002 appropriation will be necessary for TPDP grantees to fully meet the statutory purposes of Section 207 and the requirements of this notice. Such a funding arrangement will enable projects to engage in an adequate recruitment effort to meet their enrollment goals, and implement both the full, two-year secondary component and the full, two-year postsecondary component of the TPDP project for the first student cohort during the grant award period.

Intergovernmental Review

This program is subject to Executive Order 12372 and the regulations in 34 CFR part 79. One of the objectives of the Executive order is to foster intergovernmental partnership and a strengthened federalism. The Executive order relies on processes developed by State and local governments for coordination and review of proposed Federal financial assistance.

This document provides early notification of our specific plans and actions for this program.

Applicable Program Regulations: 34 CFR parts 74-79.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html. Catalog of Federal Domestic Assistance Number: 84.353.

Program Authority: 20 U.S.C. 2328.

Dated: January 22, 2003.
Carol D'Amico,
Assistant Secretary for Vocational and Adult Education.

[FR Doc. 03-1791 Filed 1-23-03; 8:45 am]

BILLING CODE 4000-01-M